NUCLEAR REGULATORY COMMISSION

[NRC-2015-0102]

Information Collection: Destinations of Released Patients Following Treatment with Iodine-131 and Estimation of Doses to Members of the Public at Locations Other Than Conventional Residences Receiving Such Patients

AGENCY: Nuclear Regulatory Commission.

ACTION: Proposed information collection: request for comment.

SUMMARY: The U.S. Nuclear Regulatory Commission (NRC) has recently submitted a proposed collection of information to the Office of Management and Budget (OMB) for review. The information collection is entitled, “Destinations of Released Patients Following Treatment with Iodine-131 and Estimation of Doses to Members of the Public at Locations other than Conventional Residences Receiving Such Patients.”

DATES: Submit comments by October 19, 2015.

ADDRESSES: Submit comments directly to OMB reviewer at: Vlad Dorjets, Desk Officer, Office of Information and Regulatory Affairs (3150-XXXX), NEOB-10202, Office of Management and Budget, Washington, DC 20503; telephone: 202-395-7315, email: oira_submission@omb.eop.gov.

FOR FURTHER INFORMATION CONTACT: Tremaine Donnell, Office of Information Services, U.S. Nuclear Regulatory Commission, Washington, DC 20555-0001; telephone: 301-415-6258; email: INFOCOLLECTS.Resource@NRC.GOV.

SUPPLEMENTARY INFORMATION:

I. Obtaining Information and Submitting Comments

A. Obtaining Information

Please refer to Docket ID NRC-2015-0102 when contacting the NRC about the availability of information for this action. You may obtain publicly-available information related to this action by any of the following methods:

• Federal rulemaking Web site: Go to http://www.regulations.gov and search for Docket ID NRC-2015-0102. A copy of the collection of information and related instructions may be obtained without charge by accessing Docket ID NRC-2015-0102 on this Web site.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML15209A593. The supporting statement available in ADAMS under Accession No. ML15209A605.

• NRC's PDR: You may examine and purchase copies of public documents at the NRC's PDR, Room O1-F21, One White Flint North, 11555 Rockville Pike, Rockville, Maryland 20852.

• NRC's Clearance Officer: A copy of the collection of information and related instructions may be obtained without charge by contacting NRC's Clearance Officer, Tremaine Donnell, Office of Information Services, U.S. Nuclear Regulatory Commission, Washington, DC 20555-0001; telephone: 301-415-6258; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, “Destinations of Released Patients Following Treatment with Iodine-131 and Estimation of Doses to Members of the Public at Locations other than Conventional Residences Receiving Such Patients.” The NRC hereby informs potential responses that an agency may not conduct or sponsor, and that a person is not required to respond to, a collection of information unless it displays a currently valid OMB control number.

The NRC published a Federal Register notice with a 60-day comment period on this information collection on Tuesday, May 19, 2015 (80 FR 28715).

1. The title of the information collection: Destinations of Released Patients Following Treatment with Iodine-131 and Estimation of Doses to Members of the Public at Locations other than Conventional Residences Receiving Such Patients.

2. OMB approval number: An OMB control number has not yet been assigned to this proposed information collection.

3. Type of submission: New.

4. The form number, if applicable: N/A.

5. How often the collection is required or requested: One-time.

6. Who will be required or asked to respond: Institutions that treat thyroid cancer patients with I-131 and the thyroid cancer patients who have been treated.

7. The estimated number of annual responses: 5,175 (175 for treating institutions and 5000 for individuals).

8. The estimated number of annual respondents: 5,175.

9. The estimated number of hours needed annually to comply with the information collection requirement or request: 1,675 (175 hours for treating institution and 1500 hours for individuals).

10. Abstract: Although most patients return to their home after receiving diagnostic or therapeutic of Iodine-131, some patients released by the licensee may stay at another location (such as a hotel) for a few days. However, the extent of this practice is unclear. The same uncertainty exists regarding patients returning to nursing homes and other institutional settings. Therefore, one of the main objectives of this study is to obtain reliable statistical data that provides good estimates of the prevalence of these practices. The second objective is to determine, by measurements, the external and internal doses received by members of the general public at hotels, nursing homes, or other institutional settings that receive treated patients immediately after their release.

Dated at Rockville, Maryland, this 14th day of September, 2015.
For the Nuclear Regulatory Commission.
Tremaine Donnell,
NRC Clearance Officer, Office of Information Services.

[FR Doc. 2015-23367 Filed 9-16-15; 8:45 am]

BILLING CODE 7590-01-P